CONSUMER PRODUCT SAFETY COMMISSION

[Docket No. CPSC-2024-0045]

Agency Information Collection Activities; Proposed Collection; Comment Request; Bathtub Slip Resistance Study

AGENCY: Consumer Product Safety Commission.

ACTION: Notice of information collection; request for comment.

SUMMARY: As required by the Paperwork Reduction Act of 1995, the Consumer Product Safety Commission (CPSC or Commission) requests comments on a request for approval from the Office of Management and Budget (OMB) for a new information collection. The proposed collection is a bathtub slip resistance study to support work on a voluntary Safety Standard for Bathtub and Shower Structure. Before CPSC can collect this information from the public, it must solicit public comment on this proposed collection of information and receive OMB approval. This notice describes the collection of information for which CPSC intends to seek OMB approval.

DATES: Submit comments on the collection of information by March 7, 2025.

ADDRESSES: You may submit comments, identified by Docket No. CPSC-2024-0045, within 60 days of publication of this notice by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/hand delivery/courier/written submissions: CPSC encourages you to submit electronic comments by using the Federal eRulemaking Portal. You may, however, submit comments by mail/hand delivery/courier to: Office of the Secretary, Consumer Product Safety Commission, 4330 East West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2024-0045 into the “Search” box, and follow the prompts.

FOR FURTHER INFORMATION CONTACT: Cynthia Gillham, Consumer Product Safety Commission, 4330 East West Highway, Bethesda, MD 20814; (301) 504-7791, or by email to: pra@cpsc.gov.

SUPPLEMENTARY INFORMATION: Under the Paperwork Reduction Act of 1995 (44 U.S.C. 3501-3521), before an agency submits a proposed collection of information to OMB for approval, it must first publish a document in the Federal Register providing a 60-day comment period and otherwise consult with members of the public and affected agencies concerning the proposed collection of information. In this notice we provide the estimated burden associated with a bathtub slip resistance study necessary to update information to support work on a voluntary Safety Standard for Bathtub and Shower Structure to replace ASTM F462, Standard Consumer Safety Specification for Slip-Resistant Bathing Facilities, which ASTM withdrew in 2016.¹ Under the PRA, an agency must publish the following information:

¹ ASTM F462-79 Standard Consumer Safety Specification for Slip-Resistant Bathing Facilities (2007) (withdrawn 2016), available at https://www.astm.org/f0462-79r07.html.

• A title for the collection of information;

• A summary of the collection of information;

• A brief description of the need for the information and the proposed use of the information;

• A description of the likely respondents and proposed frequency of response to the collection of information;

• An estimate of the burden that will result from the collection of information; and

• Notice that comments may be submitted to the agency and OMB.

44 U.S.C. 3507(a)(1)(D). In accordance with this requirement, the Commission provides the following information: ²

² On December 26, 2024, the Commission voted (5-0) to publish this notice.

Title: Bathtub Slip Resistance Study.

OMB Number: New.

Type of Request: New information collection requirement.

Type of Review Requested: Regular.

Requested Expiration Date of Approval: Three years from date of approval.

Summary of the Collection of Information: The objective of this study is to conduct human slip research on three bathtubs on the market and to measure the friction demand of participants stepping into and out of the bathtubs when dry and wet. CPSC contracted with Arizona State University (ASU) to conduct this study. Participants will be recruited from the Phoenix, Arizona metro area. The experiments will be conducted at ASU's Locomotion Research Laboratory. The study will involve a total of three sessions to test three bathtub surfaces, where participants will walk into the tub and step out, while wearing fall arresting harness systems for safety. During these sessions, resistance forces under the foot and motion of the foot movements will be measured. The study will quantify the minimum frictional performance required for a bathing surface to reduce slips and falls. CPSC staff will share the results of the study with the ASTM F15.03 Committee on Safety Standards for Bathtub and Shower Structure working on replacing ASTM F462.

Description of the Need for the Information and Proposed Use of the Information: Falls are the leading cause of injury and death for older adults 65 and older.³ Information collected as part of the bathtub slip resistance study is needed initially to support CPSC staff in efforts to work with the ASTM F15.03 Committee on Safety Standards for Bathtub and Shower Structures to replace the obsolete ASTM F462 standard for bathing surface friction that ASTM withdrew in 2016. This study will be used to inform CPSC staff of major requirements needed to achieve an efficient and effective slip-resistance standard.

³ Chowdhury et al., U.S. Consumer Prod. Safety Comm'n., Consumer Product-related Injuries and Deaths Among Adults 65 Years of Age and Older, 67-68 (2021), available at https://tinyurl.com/2t88v33m.

Affected Public: Adults between ages 18 and 95 years old.

Estimated Number of Respondents: We expect up to 200 respondents annually. Over the full authorized period of the study, which is three years, up to 600 respondents may participate.

Frequency: One.

Total Estimated Annual Burden: Though response times will vary, on average, it will take 2.5 hours for respondents to fully participate in the study. Therefore, the annual estimated response burden is 500 hours (200 responses × 2.5 hours per response).

Total Estimated Annual Burden Cost: There are no costs to respondents and no respondent recordkeeping requirements associated with the study. There are no operating, maintenance, or capital costs associated with the collection. Participants will receive $100 for participation in the study.

Request for Comments:

CPSC requests that interested parties submit comments regarding this proposed information collection (see the ADDRESSES section at the beginning of this notice). Pursuant to 44 U.S.C. 3506(c)(2)(A), the Commission specifically invites comments on:

• Whether the proposed collection of information is necessary for the proper performance of CPSC's functions, including whether the information will have practical utility;

• The accuracy of CPSC's estimate of the burden of the proposed collection of information;

• Ways to enhance the quality, utility, and clarity of the information the Commission proposes to collect; and

• Ways to minimize the burden of the collection of information on respondents, including through the use of automated collection techniques when appropriate, and other forms of information technology.

Alberta E. Mills,
Secretary, Consumer Product Safety Commission.

[FR Doc. 2024-31623 Filed 1-3-25; 8:45 am]

BILLING CODE 6355-01-P